DEPARTMENT OF COMMERCE

International Trade Administration

[A-484-803]

Large Diameter Welded Pipe From Greece: Amended Final Affirmative Antidumping Determination and Antidumping Duty Order

AGENCY: Enforcement and Compliance, International Trade Administration, Department of Commerce.

SUMMARY: Based on affirmative final determinations by the Department of Commerce (Commerce) and the International Trade Commission (ITC), Commerce is issuing an antidumping duty order on large diameter welded carbon and alloy steel line pipe from Greece. In addition, Commerce is amending its final affirmative determination.

DATES: Applicable May 2, 2019.

FOR FURTHER INFORMATION CONTACT: Brittany Bauer at (202) 482-3860, AD/CVD Operations, Enforcement and Compliance, International Trade Administration, U.S. Department of Commerce, 1401 Constitution Avenue NW, Washington, DC 20230.

SUPPLEMENTARY INFORMATION:

Background

On February 27, 2019, Commerce published its affirmative final determination in the less-than-fair-value (LTFV) investigation of large diameter welded pipe from Greece.¹ The scope of the investigation in Commerce's final determination covered large diameter welded carbon and alloy steel line pipe (welded line pipe), large diameter welded carbon and alloy steel structural pipe (welded structural pipe), and stainless steel large diameter welded pipe (stainless steel pipe) from Greece.² As discussed below, the ITC subsequently found three domestic like products covered by the scope of the investigation (welded line pipe, welded structural pipe, and stainless steel pipe) and, accordingly, made a separate injury determination with respect to each domestic like product. On April 15, 2019, the ITC notified Commerce of its final determination, pursuant to 735(d) of the Tariff Act of 1930, as amended (the Act), that an industry in the United States is threatened with material injury within the meaning of section 735(b)(1)(A)(ii) of the Act, by reason of LTFV imports of welded line pipe from Greece.³ Additionally, the ITC made negligibility determinations with respect to welded structural pipe and stainless steel pipe.⁴

¹ See Large Diameter Welded Pipe from Greece: Final Determination of Sales at Less Than Fair Value, 84 FR 6364 (February 27, 2019) (Final Determination).

² Id.

³ See ITC Notification Letter regarding ITC Investigation Nos. 701-TA-595-596 and 731-TA-1401, 1403, and 1405-1406, dated April 15, 2019 (ITC Notification); see also Large Diameter Welded Pipe from Canada, Greece, Korea, and Turkey; Determinations, 84 FR 16533 (April 19, 2019) (ITC Final Determination); and Large Diameter Welded Pipe from Canada, Greece, Korea, and Turkey, Investigation Nos. 701-TA-595-596 and 731-TA-1401, 1403, 1405-1406 (Final), Publication 4883, April 2019 (Final ITC Report).

⁴ See ITC Notification.

On April 5, 2019, Commerce released draft revised scope language for comment by parties.⁵ On April 9, 2019, we received comments from the sole mandatory respondent in this case, Corinth Pipeworks Pipe Industry S.A. (Corinth).⁶ In these comments, Corinth requested that Commerce change an existing scope exclusion to cover pipe made to foreign water and sewage pipe specifications that are comparable to American Water Works Association standards. Because Corinth's proposed language would broaden the existing exclusion, we have not adopted it.

⁵ See Memorandum, “Comments on the Scope of the Orders,” dated April 5, 2019.

⁶ See Corinth's Letter, “Antidumping and Countervailing Duty Investigations of Large Diameter Welded Pipe from Canada, Greece, the Republic of Korea, and the Republic of Turkey—CPW/CPWA's Comments on the Scope of the Orders,” dated April 9, 2019.

Scope of the Order

The product covered by this order is welded line pipe from Greece. For a complete description of the scope of this order, see the Appendix to this notice.

Amendment to Final Determination

A ministerial error is defined as an error in addition, subtraction, or other arithmetic function, clerical error resulting from inaccurate copying, duplication, or the like, and any other similar type of unintentional error which the Secretary considers ministerial.⁷

⁷ See section 735(e) of the Act and 19 CFR 351.224(f).

Pursuant to sections 735(e) of the Act and 19 CFR 351.224(e) and (f), Commerce is amending the Final Determination to reflect the correction of a ministerial error in the final estimated weighted average dumping margin calculated for Corinth. In addition, because Corinth's estimated weighted average dumping margin is the basis for the estimated weighted average dumping margin determined for all other Greek producers and exporters of subject merchandise, we also are revising the “all-others” rate in the Final Determination.⁸ The amended estimated weighted average dumping margins are listed in the Suspension of Liquidation section below.

⁸ See Memorandum, “Less-Than-Fair-Value Investigation of Large Diameter Welded Pipe from Greece: Allegation of Ministerial Errors in the Final Determination,” dated April 1, 2019.

Antidumping Duty Order

On April 15, 2019, in accordance with sections 735(b)(1)(A)(ii) and 735(d) of the Act, the ITC notified Commerce of its final determination in this investigation, in which it found that imports of welded line pipe from Greece threaten material injury to a U.S. industry.⁹ As a result, and in accordance with sections 735(c)(2) and 736 of the Act, we are publishing this antidumping duty order. As noted above, in its determination, the ITC found three domestic like products covered by the scope of the investigation: Welded line pipe, welded structural pipe, and stainless steel pipe. The ITC found that imports of welded structural pipe and stainless steel pipe from Greece are negligible. The ITC made an affirmative determination with respect to welded line pipe from Greece. Because the ITC made distinct and different injury determinations for separate domestic like products, Commerce will instruct U.S. Customs and Border Protection (CBP) to assess antidumping duties on entries of welded line pipe (subject merchandise) from Greece, and not on entries of welded structural pipe or stainless steel pipe (excluded merchandise) from Greece.

⁹ See ITC Notification; and ITC Final Determination.

Welded Line Pipe

The Final ITC Report describes welded line pipe as a tubular product produced from carbon and alloy steel, produced to American Petroleum Institute (API) 5L specifications, and designed for conveying liquids and gases.¹⁰ Because the ITC determined that LTFV imports of welded line pipe from Greece are threatening material injury to a U.S. industry,¹¹ Commerce will direct CBP that unliquidated entries of subject merchandise from Greece, entered or withdrawn from warehouse, are subject to the assessment of antidumping duties pursuant to section 736 of the Act. Specifically, as a result of the ITC Final Determination, in accordance with section 736(a) of the Act, Commerce will direct CBP to assess, upon further instruction by Commerce, antidumping duties equal to the amount by which the normal value of the merchandise exceeds the export price (or constructed export price) of the merchandise for all relevant entries of welded line pipe from Greece.

¹⁰ See Final ITC Report at 7.

¹¹ Id. at 1 and 5.

Pursuant to section 736(b)(2) of the Act, duties shall be assessed on subject merchandise entered, or withdrawn from warehouse, for consumption on or after the date of publication of the ITC Final Determination if that determination is based on the threat of material injury, other than threat of material injury described in section 736(b)(1) of the Act.¹² In addition, section 736(b)(2) of the Act requires CBP to release any bond or other security, and refund any cash deposit made of estimated antidumping duties posted since Commerce's Preliminary Determination.¹³ Because the ITC Final Determination with respect to welded line pipe from Greece is based on the threat of material injury and is not accompanied by a finding that injury would have resulted but for the imposition of suspension of liquidation of entries since Commerce's Preliminary Determination, section 736(b)(2) of the Act is applicable. Accordingly, antidumping duties will be assessed on unliquidated entries of welded line pipe from Greece entered, or withdrawn from warehouse, for consumption on or after the date of publication of the ITC Final Determination in the Federal Register. Further, Commerce will direct CBP to terminate the suspension of liquidation for entries of welded line pipe from Greece entered, or withdrawn from warehouse, for consumption prior to the publication of the ITC Final Determination in the Federal Register. Commerce will also instruct CBP to refund any cash deposits made with respect to entries of welded line pipe entered, or withdrawn from warehouse, for consumption on or after August 27, 2018 (the date of publication of the Preliminary Determination), but before February 23, 2019 (the date suspension of liquidation was discontinued in accordance with section 733(d) of the Act).

¹² Section 736(b)(1) of the Act states that “{if the ITC}, in its final determination under section 735(b), finds material injury or threat of material injury which, but for the suspension of liquidation under section 733(d)(2) would have led to a finding of material injury, then entries of the subject merchandise, the liquidation of which has been suspended under section 733(d)(2), shall be subject to the imposition of antidumping duties under section 731.”

¹³ See Large Diameter Welded Pipe from Greece: Preliminary Determination of Sales at Less Than Fair Value and Postponement of Final Determination, 83 FR 43640 (August 27, 2018) (Preliminary Determination).

Welded Structural Pipe

The Final ITC Report describes welded structural pipe as a tubular product produced from carbon and alloy steel, produced to American Society for Testing and Materials (ASTM) specifications, and designed for support in construction projects and piling.¹⁴ Because the ITC determined that imports of welded structural pipe from Greece are negligible,¹⁵ Commerce will direct CBP to terminate the suspension of liquidation for entries of welded structural pipe from Greece entered, or withdrawn from warehouse, and to refund all cash deposits with respect to these entries pursuant to section 735(c)(2) of the Act.

¹⁴ See Final ITC Report at 7.

¹⁵ Id. at 1 and 5.

Stainless Steel Pipe

The Final ITC Report describes stainless steel pipe as being produced from stainless steel for its high-chrome chemistry and corrosion-resistant properties.¹⁶ Because the ITC determined that imports of stainless steel pipe from Greece are negligible,¹⁷ Commerce will direct CBP to terminate the suspension of liquidation for entries of stainless steel pipe from Greece entered, or withdrawn from warehouse, and to refund all cash deposits with respect to these entries pursuant to section 735(c)(2) of the Act.

¹⁶ Id. at 7.

¹⁷ Id. at 1-2 and 5.

Suspension of Liquidation

In accordance with section 736 of the Act, Commerce will direct CBP to reinstitute the suspension of liquidation of subject merchandise (i.e., welded line pipe) from Greece, effective the date of publication of the ITC Final Determination in the Federal Register, and to assess, upon further instruction by Commerce pursuant to section 736(a)(1) of the Act, antidumping duties for each entry of the subject merchandise equal to the amount by which the normal value of the merchandise exceeds the export price (or constructed export price) of the merchandise. We intend to instruct CBP to require, at the same time as importers would normally deposit estimated import duties on this merchandise, cash deposits for each entry of subject merchandise equal to the rates noted below. These instructions suspending liquidation will remain in effect until further notice. The all-others rate applies to all other producers or exporters not specifically listed.

Company | Estimated weighted- average dumping margin (percent)
Corinth Pipeworks Pipe Industry S.A | 10.26
All Others | 10.26

Notifications to Interested Parties

This notice constitutes the antidumping duty order with respect to welded line pipe from Greece pursuant to section 736(a) of the Act. Interested parties can find a list of antidumping duty orders currently in effect at http://enforcement.trade.gov/stats/iastats1.html.

This amended final determination and order is published in accordance with sections 735(e) and 736(a) of the Act, and 19 CFR 351.211(b) and 351.224(e) and (f).

Dated: April 23, 2019.
Jeffrey I. Kessler,
Assistant Secretary for Enforcement and Compliance.

Appendix—Scope of the Order

The merchandise covered by this order is welded carbon and alloy steel line pipe (other than stainless steel pipe), more than 406.4 mm (16 inches) in nominal outside diameter (large diameter welded line pipe), regardless of wall thickness, length, surface finish, grade, end finish, or stenciling. Large diameter welded pipe may be used to transport oil, gas, slurry, steam, or other fluids, liquids, or gases.

Large diameter welded line pipe is used to transport oil, gas, or natural gas liquids and is normally produced to the American Petroleum Institute (API) specification 5L. Large diameter welded line pipe can be produced to comparable foreign specifications, grades and/or standards or to proprietary specifications, grades and/or standards, or can be non-graded material. All line pipe meeting the physical description set forth above, including any dual- or multiple-certified/stenciled pipe with an API (or comparable) welded line pipe certification/stencil, is covered by the scope of this order.

Subject merchandise also includes large diameter welded line pipe that has been further processed in a third country, including but not limited to coating, painting, notching, beveling, cutting, punching, welding, or any other processing that would not otherwise remove the merchandise from the scope of the order if performed in the country of manufacture of the in-scope large diameter welded line pipe.

Excluded from the scope of this order is structural pipe, which is produced only to American Society for Testing and Materials (ASTM) standards A500, A252, or A53, or other relevant domestic specifications, or comparable foreign specifications, grades and/or standards or to proprietary specifications, grades and/or standards. Also excluded is large diameter welded pipe produced only to specifications of the American Water Works Association (AWWA) for water and sewage pipe.

The large diameter welded line pipe that is subject to this order is currently classifiable in the Harmonized Tariff Schedule of the United States (HTSUS) under subheadings 7305.11.1030, 7305.11.1060, 7305.11.5000, 7305.12.1030, 7305.12.1060, 7305.12.5000, 7305.19.1030, 7305.19.1060, and 7305.19.5000. Merchandise currently classifiable under subheadings 7305.31.4000, 7305.31.6090, 7305.39.1000 and 7305.39.5000 and that otherwise meets the above scope language is also covered. While the HTSUS subheadings are provided for convenience and customs purposes, the written description of the scope of this order is dispositive.

[FR Doc. 2019-08954 Filed 5-1-19; 8:45 am]

BILLING CODE 3510-DS-P